DEPARTMENT OF AGRICULTURE

Rural Housing Service

7 CFR Part 1980

RIN 0575-AC73

Income Limit Modification

AGENCY: Rural Housing Service, USDA.

ACTION: Advance notice of proposed rulemaking.

SUMMARY: The Rural Housing Service is proposing to revise the existing income limit structure for Single Family Housing Guaranteed Loan Program (SFHGLP) eligibility. Instead of eligible adjusted income based on households ranging from 1-8 persons according to 7 CFR 1980.345 (a), a two tier income structure consisting of a 1-4 member household and a 5-8 member household is proposed. The new adjusted income limit for the 1-4 member household, for example, would be current adjusted income limit for the 4 member household. The present add-on income limits for larger households will remain unchanged. The present multiple income limits (1-8 persons) are cumbersome, and the proposed consolidation is expected to simplify program delivery as well as allow the agency to serve additional qualified homebuyers. The SFHGLP is in partnership with many State Housing Agencies throughout the United States. The majority of these agencies already maintain a two tier income structure, and this proposed change would allow a seamless integration of the respective programs. This proposal would not apply to other housing programs.

DATES: Comments on this advance notice of proposed rulemaking must be received on or before May 12, 2008 to be assured of consideration.

ADDRESSES: You may submit comments to this rule by any one of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Ave, SW., Washington, DC 20250-0742.

• Hand Delivery/Courier: Submit written comments via Federal Express Mail or other courier service requiring a street address to the Branch Chief, Regulations and Paperwork Management Branch, U.S. Department of Agriculture, 300 7th Street, SW., 7th Floor, Washington, DC 20024.

All written comments will be available for public inspection during regular work hours at 300 7th Street, SW., 7th Floor address listed above.

FOR FURTHER INFORMATION CONTACT: David Chaput, Senior Loan Specialist, USDA Rural Development, Single Family Housing Guaranteed Loan Division, STOP 0784 (Room 2250) 1400 Independence Ave., SW., Washington, DC 20250-0784. Telephone: 202-720-1456.

SUPPLEMENTARY INFORMATION:

Classification

This advance notice has been reviewed under Executive Order (EO) 12866 and has been determined to be not significant for the purposes of this EO.

Dated: March 18, 2008.
Russell T. Davis,
Administrator, Rural Housing Service.

[FR Doc. E8-7205 Filed 4-9-08; 8:45 am]

BILLING CODE 3410-XV-P